DEPARTMENT OF THE INTERIOR

Bureau of Land Management

[LLAK9100000-L131000000.PP0000-L.X.SS.052L0000]

Notice of Public Meeting, BLM Alaska Resource Advisory Council

AGENCY: Alaska State Office, Bureau of Land Management, Interior.

ACTION: Notice.

SUMMARY: In accordance with the Federal Land Policy and Management Act (FLPMA) and the Federal Advisory Committee Act of 1972 (FACA), the U.S. Department of the Interior, Bureau of Land Management (BLM) Alaska Resource Advisory Council will meet as indicated below:

DATES: The Alaska Resource Advisory Council will conduct a field trip within the Glennallen, Alaska, area from August 3-5, 2010, which includes a public meeting on Tuesday, August 3, at the BLM Glennallen Field Office at Mile Post 186.5 Glenn Highway, Glennallen, Alaska beginning at 2 p.m. The meeting will include discussions on resource management and planning issues followed by a public comment period beginning at 4 p.m.

FOR FURTHER INFORMATION CONTACT: Ruth McCoard, Alaska State Office, 222 W. 7th Avenue #13, Anchorage, AK 99513. Telephone (907) 271-4418 or e-mail rmccoard@blm.gov.

SUPPLEMENTARY INFORMATION: The 15-member Council advises the Secretary of the Interior, through the Bureau of Land Management, on a variety of planning and management issues associated with public land management in Alaska. When making public comment, participants should know that their address, phone number, e-mail address, or other personal identifying information in their comment, along with their entire comment may be made publicly available at any time. Participants can ask that personal identifying information be withheld from their comments but this cannot be guaranteed.

All meetings are open to the public. The public may present written comments to the Council. Each formal Council meeting will also have time allotted for hearing public comments. Depending on the number of people wishing to comment and time available, the time for individual oral comments may be limited. Individuals who plan to attend and need special assistance, such as sign language interpretation, transportation, or other reasonable accommodations, should contact the BLM.

Dated: June 9, 2010.
Julia Dougan,
Acting State Director.

[FR Doc. 2010-14484 Filed 6-15-10; 8:45 am]

BILLING CODE 4310-JA-P